DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Pacific Islands Region Permit Family of Forms.

OMB Control Number: 0648-0490.

Form Number(s): None.

Type of Request: Regular (revision and extension of a currently approved information collection).

Number of Respondents: 354.

Average Hours per Response: Hawaii longline limited entry permits: Renewal on paper application—30 minutes; renewal online—15 minutes; transfer—1 hour, closed area exemption and permit appeals—2 hours; American Samoa longline limited entry permits: Renewal and additional permit application—45 minutes, transfer—1 hour 15 minutes, permit appeals—2 hours; all other permits: Paper—30 minutes, online—15 minutes.

Burden Hours: 169.

Needs and Uses: Regulations at 50 CFR 665, Subpart F, require that a vessel must be registered to a valid federal fishing permit to fish with longline gear for Pacific pelagic management unit species (PMUS), land or transship longline caught PMUS, or receive longline caught PMUS from a longline vessel, within the Exclusive Economic Zone (EEZ) of United States (U.S.) islands in the central and western Pacific, to fish with pelagic squid jig gear for PMUS within the Exclusive Economic Zone (EEZ) of United States (U.S.) islands in the central and western Pacific, or to fish with troll and handline gear for PMUS within the EEZ around each of the Pacific Remote Island Areas (PRIA), in areas not prohibited to fishing.

Regulations at 50 CFR parts 665, Subparts D and E, require that the owner of a vessel used to fish for, land, or transship bottomfish management unit species (BMUS) using a large vessel (50 ft or longer) around Guam, fish commercially for BMUS in the EEZ around the Northern Mariana Islands, or use a vessel to fish for BMUS within the EEZ around each of the PRIA, in areas not prohibited to fishing, must register it to a valid federal fishing permit.

Regulations at 50 CFR 665, Subparts B, C, D, and E, require that a vessel used to fish for precious corals within the EEZ of U.S. islands in the central and western Pacific, must be registered to a valid federal fishing permit for a specific precious coral permit area.

The collection is revised by merging currently approved information collections OMB Control Numbers 0648-0584, Northern Mariana Islands Commercial Bottomfish Fishery Permit, 0648-0586, Pacific Islands Crustacean Permit, and 0648-0589, Pacific Islands Pelagic Squid Jig Fishing Permit, into OMB Control No. 0648-0490 Pacific Islands Region Permit Family of Forms. NMFS approved new two-tier processing fees for most permits, resulting in revised cost estimates.

Affected Public: Business or other for-profit organizations; individuals or households.

Frequency: Annually and on occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: December 14, 2017.
Sarah Brabson,
NOAA PRA Clearance Officer.

[FR Doc. 2017-27288 Filed 12-18-17; 8:45 am]

BILLING CODE 3510-22-P